DEPARTMENT OF ENERGY

National Coal Council Meeting

AGENCY: Department of Energy.

ACTION: Notice of open meeting.

SUMMARY: This notice announces a meeting of the National Coal Council (NCC). The Federal Advisory Committee Act (Pub. L. 92-463, 86 Stat. 770) requires that public notice of these meetings be announced in the Federal Register.

DATES: Wednesday, April 8, 2015 9:00 a.m. to 12:30 p.m.

ADDRESSES: Grand Hyatt Hotel, 1000 H Street, NW., Washington, DC 20001

FOR FURTHER INFORMATION CONTACT: Dr. Robert J. Wright, U.S. Department of Energy, 4G-036/Forrestal Building, 1000 Independence Avenue SW., Washington, DC 20585-0001; Telephone: 202-586-0429.

SUPPLEMENTARY INFORMATION:

Purpose of the Council: The National Coal Council provides advice and recommendations to the Secretary of Energy, on general policy matters relating to coal and the coal industry.

Purpose of Meeting: The 2015 Spring meeting of the National Coal Council.

Tentative Agenda:

1. Call to order and opening remarks by Jeff Wallace, Chair, National Coal Council

2. Remarks by U.S. Department of Energy Representative—TBD

3. Presentation by Mike Marsh, President & CEO, SaskPower on Boundary Dam's CCS Retrofit Project (TENTATIVE)

4. Presentation on Opportunities for Grid-Scale Energy Storage for Coal Power Plants

5. Presentation by Center for Climate & Energy Solutions (C2ES) & the National Enhanced Oil Recovery Initiative (NEORI) on Opportunities for Financing CCS Projects & the Impact of Oil Prices on CO2-EOR

6. Presentation by Wood Mackenzie on What Lies Ahead for Global Coal

7. Council Business:

a. Finance report by Finance Committee Chair Greg Workman

b. Coal Policy Committee report by Coal Policy Committee Chair Fred Palmer

c. NCC Business Report & Communications Committee Report by NCC Executive Vice President & COO Janet Gellici

8. Other business

9. Adjourn

Public Participation: The meeting is open to the public. If you would like to file a written statement with the Council, you may do so either before or after the meeting. If you would like to make oral statements regarding any item on the agenda, you should contact Dr. Robert J. Wright, 202-586-0429 or robert.wright@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC Web site at: http://www.nationalcoalcouncil.org/.

Issued at Washington, DC on March 4, 2015.
LaTanya R. Butler,
Deputy Committee Management Officer.

[FR Doc. 2015-05532 Filed 3-10-15; 8:45 am]

BILLING CODE 6450-01-P